DEPARTMENT OF AGRICULTURE

Forest Service

Information Collection; Guidelines for Eligibility and Required Documentation for the Golden Access Passport

AGENCY: Forest Service, USDA.

ACTION: Notice; request for comments.

SUMMARY: In accordance with the Paperwork Reduction Act of 1995, the Forest Service, Department of Agriculture; the Bureau of Land Management, Bureau of Reclamation, National Park Service, and the Fish and Wildlife Service, Department of the Interior; and the U.S. Army Corps of Engineers, Department of Defense are seeking comments from all interested individuals and organizations on the new information collection, “Guidelines for Eligibility and Required Documentation for the Golden Access Passport.”

DATES: Comments on this notice must be received by December 15, 2003 to be assured of consideration. Comments received after that date will be considered to the extent practicable.

ADDRESSES: Comments concerning this notice should be addressed to Recreation, Heritage, and Wilderness Resources Staff, Attn: Accessibility Program Manager, Mail Stop 1125, Forest Service, USDA, 1400 Independence Avenue, SW., Washington, DC 20090-1125.

Comments also may be submitted via facsimile to (202) 205-1145 or by e-mail to gap@fs.fed.us. The public is requested not to send duplicate written comments via regular mail.

The public may inspect comments received in the Office of the Director, Recreation, Heritage, and Wilderness Resources Staff, 4th Floor-Central, Sidney R. Yates Federal Building, Forest Service, USDA, 201 14th Street, SW., Washington DC, between the hours of 8:30 a.m. to 4 p.m. on business days. Visitors are encouraged to call ahead to (202) 205-1706 to facilitate entry into the building.

FOR FURTHER INFORMATION CONTACT: Janet Zeller, Accessibility Program Manager, Recreation, Heritage and Wilderness Resources Staff, at (202) 205-9597. Individuals who use telecommunication devices for the deaf (TDD) may call the Federal Relay Service (FRS) at 1-800-877-8339 twenty-four hours a day, every day of the year, including holidays.

SUPPLEMENTARY INFORMATION: Title: Guidelines for Eligibility and Required Documentation for the Golden Access Passport.

OMB Number: 0596-New.

Expiration Date of Approval: N/A.

Type of Request: New.

Abstract: The Golden Access Passport was created in 1980 by an amendment to the Land and Water Conservation Fund Act (LWCFA) of 1965. A Golden Access Passport is a free, lifetime permit that is issued without charge by the National Park Service, Bureau of Land Management, Bureau of Reclamation, and Fish and Wildlife Service, Department of the Interior; the Forest Service, Department of Agriculture; and the U.S. Army Corps of Engineers, Department of Defense to citizens or persons who are domiciled (permanent residents) in the United States, regardless of age, and who have a medical determination and documentation of blindness or permanent disability. Golden Access Passports may be obtained in person and upon proof of blindness or medically determined permanent disability in accordance with the criteria established in the LWCFA of 1965, as amended.

The Passport is not transferable and must be signed by the holder. This Passport entitles the holder and any persons accompanying the holder, such as a care assistant or the holder's spouse and children, in a single private, noncommercial vehicle, to general admission to a Federal area where an entrance fee is charged. This Passport also entitles the holder only to a 50 percent discount on use fees that are charged per vehicle, per person, or per single-family unit at outdoor recreation sites managed by the Forest Service or concessionaires.

In order to clarify and simplify the process for persons with disabilities to obtain the Golden Access Passport, all of the agencies that issue this free, lifetime Passport cooperated in the development of the Guidelines for Eligibility and Required Documentation for the Golden Access Passport. These Guidelines will be used by each agency when assisting customers seeking to obtain the Passport.

Estimate of Burden: 5 minutes.

Type of Respondents: Individuals with permanent disabilities, who are applying for the free, lifetime Golden Access Passport.

Estimated Number of Respondents: 59,810.

Estimated Number of Responses per Respondent: 1.

Estimated Total Annual Burden on Respondents: 11,962 hours.

Comment Is Invited

Comment is invited on: (1) Whether the proposed collection of information is necessary for the stated purpose and the proper performance of the functions of the agency, including whether the information will have practical utility; (2) the accuracy of the agency's estimate of the burden of the proposed collection of information including the validity of the methodology and assumptions used; (3) ways to enhance the quality, utility, and clarity of the information to be collected; and (4) ways to minimize the burden of the collection of information on respondents, including the use of automated, electronic, mechanical, or other technological collection techniques or other forms of information technology.

Use of Comments

All comments received in response to this notice, including names and addresses when provided, will be a matter of public record. Comments will be summarized and included in the submission for Office of Management and Budget approval.

Dated: October 7, 2003.
Gloria Manning,
Associate Deputy Chief, National Forest System.

[FR Doc. 03-26073 Filed 10-14-03; 8:45 am]

BILLING CODE 3410-11-P